DEPARTMENT OF COMMERCE

Foreign-Trade Zones Board

[B-51-2018]

Foreign-Trade Zone (FTZ) 189—Kent/Ottawa/Muskegon Counties, Michigan; Authorization of Production Activity, Helix Steel (Twisted Steel Micro Rebar) Grand Rapids, Michigan

On August 13, 2018, KOM Foreign Trade Zone Authority, grantee of FTZ 189, submitted a notification of proposed production activity to the FTZ Board on behalf of Helix Steel, within Site 11, in Grand Rapids, Michigan.

The notification was processed in accordance with the regulations of the FTZ Board (15 CFR part 400), including notice in the Federal Register inviting public comment (83 FR 42109, August 20, 2018). On December 11, 2018, the applicant was notified of the FTZ Board's decision that no further review of the activity is warranted at this time. The production activity described in the notification was authorized, subject to the FTZ Act and the FTZ Board's regulations, including Section 400.14.

Dated: December 11, 2018.
Andrew McGilvray,
Executive Secretary.

[FR Doc. 2018-27246 Filed 12-14-18; 8:45 am]

BILLING CODE 3510-DS-P